DEPARTMENT OF HOMELAND SECURITY

Federal Emergency Management Agency

[Docket ID FEMA-2011-0003]

Agency Information Collection Activities: Proposed Collection; Comment Request, 1660-0058; Fire Management Assistance Grant Program

AGENCY: Federal Emergency Management Agency, DHS.

ACTION: Notice; 60-day notice and request for comments; extension, without change, of a currently approved information collection; OMB No. 1660-0058; FEMA Form 078-0-1 (previously FEMA Form 90-58), Request for Fire Management Assistance Declaration; FEMA Form 089-0-24 (previously FEMA Form 90-133), Request for Fire Management Sub-grant; FEMA Form 078-0-2 (previously FEMA Form 90-32), Principal Advisor's Report.

SUMMARY: The Federal Emergency Management Agency, as part of its continuing effort to reduce paperwork and respondent burden, invites the general public and other Federal agencies to take this opportunity to comment on a proposed extension, without change, of a currently approved information collection. In accordance with the Paperwork Reduction Act of 1995, this notice seeks comments concerning the Fire Management Assistance Grant Program.

DATES: Comments must be submitted on or before May 9, 2011.

ADDRESSES: To avoid duplicate submissions to the docket, please use only one of the following means to submit comments:

(1) Online. Submit comments at http://www.regulations.gov under Docket ID FEMA-2011-0003. Follow the instructions for submitting comments.

(2) Mail. Submit written comments to Docket Manager, Office of Chief Counsel, DHS/FEMA, 500 C Street, SW., Room 835, Washington, DC 20472-3100.

(3) Facsimile. Submit comments to (703) 483-2999.

(4) E-mail. Submit comments to FEMA-POLICY@dhs.gov. Include Docket ID FEMA-2011-0003 in the subject line.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of http://www.regulations.gov.

FOR FURTHER INFORMATION CONTACT: Allen Wineland, Program Analyst, Federal Emergency Management Agency, 202-646-3661 for additional information. You may contact the Records Management Division for copies of the proposed collection of information at facsimile number (202) 646-3347 or e-mail address: FEMA-Information-Collections-Management@dhs.gov.

SUPPLEMENTARY INFORMATION: The information collection is required for Fire Management Assistance Grant Program (FMAGP) eligibility determinations, grants management, and compliance with other Federal laws and regulations. 44 CFR part 204 specifies the information collections necessary to facilitate the provision of assistance under the FMAGP. FMAGP was established under Section 420 of the Robert T. Stafford Disaster Relief and Emergency Assistance Act, 42 U.S.C. 5187, as amended by section 303 of the Disaster Mitigation Act of 2000, and authorizes the President to provide assistance to any State or local government for the mitigation, management, and control of any fire on public or private forest land or grassland that threatens such destruction as would constitute a major disaster.

Collection of Information

Title: Fire Management Assistance Grant Program.

Type of Information Collection: Extension, without change, of a currently approved information collection.

OMB Number: 1660-0058.

Form Titles and Numbers: FEMA Form 078-0-1 (previously FEMA Form 90-58), Request for Fire Management Assistance Declaration; FEMA Form 089-0-24 (previously FEMA Form 90-133), Request for Fire Management Sub-grant; FEMA Form 078-0-2 (previously FEMA Form 90-32), Principal Advisor's Report.

Abstract: The information collection is required to make grant eligibility determinations for the Fire Management Assistance Grant Program (FMAGP). These eligibility-based grants and subgrants provide assistance to any eligible State, Tribal Government, or local government for the mitigation, management, and control of a fire on public or private forest land or grassland that is threatening such destruction as would constitute a major disaster. The data/information gathered in the forms is used to determine the severity of the threatening fire, current and forecast weather conditions, and associated factors related to the fire and its potential threat as a major disaster.

Affected Public: State, local, or Tribal Government.

Estimated Total Annual Burden Hours: 810.5 hours.

Estimated Annualized Burden Hours and Costs
Type of respondent | Form name/form number | Number of respondents | Number of responses per respondent | Total Number of responses | Average burden per response (in hours) | Total annual burden (in hours) | Avg. hourly wage rate | Total annual respondent cost
State, Local or Tribal Government | FEMA-State Agreement and Amendment | 25 | 4 | 100 | 0.4 hours (24 minutes) | 40 | $52.56 | $2,102.40
State, Local or Tribal Government | State Administrative Plan for Fire Management Assistance | 25 | 1 | 25 | 8 hours | 200 | 52.56 | 10,512.00
State, Local or Tribal Government | Request for Fire Management Assistance Declaration, FEMA Form 078-0-1 (Previously FF 90-58) | 25 | 4 | 100 | 1 hour | 100 | 52.56 | 5,256.00
State, Local or Tribal Government | Request for Fire Management Assistance Sub-grant, FEMA Form 089-0-24 (Previously FF 90-133) | 25 | 4 | 100 | 0.3 hours (18 minutes) | 30 | 52.56 | 1,576.80
State, Local or Tribal Government | Principal Advisor's Report, FEMA Form 078-0-2 (Previously FF 90-32) | 25 | 4 | 100 | 3 hours | 300 | 52.56 | 15,768
State, Local or Tribal Government | Appeal Letter | 3 | 1 | 3 | 1 hour | 3 | 52.56 | 157.68
State, Local or Tribal Government | Duplication of Benefits Letter | 25 | 4 | 100 | 1 hour | 100 | 52.56 | 5,256.00
State, Local or Tribal Government | Training Sessions | 25 | 1 | 25 | 1.5 hours (90 minutes) | 37.5 | 52.56 | 1,971.00
Total |  | 178 |  | 553 |  | 810.5 |  | 42,599.88

Estimated Cost: There are no annual operation, maintenance, capital or startup costs associated with this collection.

Comments

Comments may be submitted as indicated in the ADDRESSES caption above. Comments are solicited to (a) Evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: March 3, 2011.
Lesia M. Banks,
Director, Records Management Division, Mission Support Bureau, Federal Emergency Management Agency, Department of Homeland Security.

[FR Doc. 2011-5419 Filed 3-9-11; 8:45 am]

BILLING CODE 9111-23-P